DEPARTMENT OF COMMERCE

National Oceanic and Atmospheric Administration

[File No. 10022]

RIN 0648-XA086

Endangered Species

AGENCY: National Marine Fisheries Service (NMFS), National Oceanic and Atmospheric Administration (NOAA), Commerce.

ACTION: Notice; receipt of application for permit modification.

SUMMARY: Notice is hereby given that Raymond Carthy, University of Florida, Florida Cooperative Fish and Wildlife Research Unit, 117 Newins-Ziegler Hall, P.O. Box 110450, Gainesville, FL 32611, has requested a modification to scientific research Permit No. 10022-01.

DATES: Written, telefaxed, or e-mail comments must be received on or before January 18, 2011.

ADDRESSES: The application and related documents are available for review by selecting “Records Open for Public Comment” from the Features box on the Applications and Permits for Protected Species (APPS) home page, https://apps.nmfs.noaa.gov, and then selecting File No. 10022-02 from the list of available applications.

These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, FL 33701; phone (727) 824-5312; fax (727) 824-5309.

Written comments on this application should be submitted to the Chief, Permits, Conservation and Education Division, at the above address. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Colette Cairns or Amy Hapeman, (301) 713-2289.

SUPPLEMENTARY INFORMATION: The subject modification to Permit No. 10022-01 is requested under the authority of the Endangered Species Act of 1973, as amended (16 U.S.C. 1531 et seq.) and the regulations governing the taking, importing, and exporting of endangered and threatened species (50 CFR 222-226).

Permit 10022-01, issued on May 12, 2010 (75 FR 26715) authorizes the permit holder to conduct research off the northwest coast of Florida. Researchers may capture loggerhead (Caretta caretta), green (Chelonia mydas), and Kemp's ridley (Lepidochelys kempii) sea turtles by strike-net or set-net. Animals may be weighed, measured, photographed, skin biopsied, flipper and passive integrated transponder (PIT) tagged, and released. Researchers also are authorized to perform a subset of activities on sea turtles legally captured by relocation trawlers. A subset of sea turtles may have transmitters attached to assess habitat use and study whether relocation distances for sea turtles captured by relocation trawlers are appropriate.

Dr. Carthy requests a modification to the permit to: (1) Increase the number of sea turtles (up to 50 loggerheads, 350 greens, and 200 Kemp's ridleys) that may be taken annually; (2) authorize satellite tagging for captured loggerhead and Kemp's ridleys; and (3) authorize three additional research activities (epibiota removal, blood sampling, and carapace swabbing) for up to 30 captured animals of each species annually. A subset of the green sea turtles will also be captured by hand/dip net, flipper and PIT tagged, measured, weighed, photographed, and temporarily carapace marked. This work would assess changes in sea turtle abundance, physical characteristics, and habitat use in the area relative to historical data and assess potential impacts of Mississippi Canyon 252 oil to sea turtles for the Natural Resources Damage Assessment. The modification would be valid until the permit expires on April 30, 2013.

Dated: December 13, 2010.
Tammy C. Adams,
Acting Chief, Permits, Conservation and Education Division, Office of Protected Resources, National Marine Fisheries Service.

[FR Doc. 2010-31754 Filed 12-16-10; 8:45 am]

BILLING CODE 3510-22-P